DEPARTMENT OF HOMELAND SECURITY

Federal Emergency Management Agency

[Docket ID FEMA-2013-0002; Internal Agency Docket No. FEMA-B-1338]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
New Mexico:
Otero | City of Alamogordo (13-06-0956P) | The Honorable Susie Galea, Mayor, City of Alamogordo, 1376 East 9th Street, Alamogordo, NM 88310 | 1376 East 9th Street, Alamogordo, NM 88310 | http://www.rampp-team.com/lomrs.htm | September 23, 2013 | 350045
Otero | Unincorporated areas of Otero County (13-06-0956P) | Ms. Pamela Heltner, County Manager, Otero County, 1101 New York Avenue, Room 106, Alamogordo, NM 88310 | Otero County, 1101 New York Avenue, Room 106, Alamogordo, NM 88310 | http://www.rampp-team.com/lomrs.htm | September 23, 2013 | 350044
Pennsylvania:
Chester | Township of East Whiteland (12-03-2075P) | The Honorable Virginia McMichael, Chairman, East Whiteland Township Board of Supervisors, 209 Conestoga Road, Frazer, PA 19355 | East Whiteland Township Building, 209 Conestoga Road, Frazer, PA 19355 | http://www.rampp-team.com/lomrs.htm | September 19, 2013 | 420279
Chester | Township of Tredyffrin (12-03-2075P) | The Honorable Michelle H. Kichline, Chairman, Tredyffrin Township Board of Supervisors, 1100 Duportail Road, Berwyn, PA 19312 | Tredyffrin Municipal Building, 1100 Duportail Road, Berwyn, PA 19312 | http://www.rampp-team.com/lomrs.htm | September 19, 2013 | 420291
Texas:
Bexar | City of San Antonio (13-06-0089P) | The Honorable Julian Castro, Mayor, City of San Antonio, P.O. Box 839966, San Antonio, TX 78283 | Municipal Plaza, 114 West Commerce Street, 7th Floor, San Antonio, TX 78205 | http://www.rampp-team.com/lomrs.htm | September 3, 2013 | 480045
Bexar | City of San Antonio (13-06-1508P) | The Honorable Julian Castro, Mayor, City of San Antonio, P.O. Box 839966, San Antonio, TX 78283 | Municipal Plaza, 114 West Commerce Street, 7th Floor, San Antonio, TX 78205 | http://www.rampp-team.com/lomrs.htm | September 25, 2013 | 480045
Bexar | Unincorporated areas of Bexar County (13-06-0089P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.rampp-team.com/lomrs.htm | September 3, 2013 | 480035
Brazoria | City of West Columbia (12-06-1432P) | The Honorable Laurie B. Kincannon, Mayor, City of West Columbia, P.O. Box 487, West Columbia, TX 77486 | 512 East Brazos Avenue, West Columbia, TX 77486 | http://www.rampp-team.com/lomrs.htm | August 29, 2013 | 480081
Brazoria | Unincorporated areas of Brazoria County (12-06-1432P) | The Honorable Joe King, Brazoria County Judge, 111 East Locust Street, Suite 102, Angleton, TX 77515 | Brazoria County, 451 North Velasco Street, Suite 210, Angleton, TX 77515 | http://www.rampp-team.com/lomrs.htm | August 29, 2013 | 485458
Collin | City of Plano (12-06-4168P) | The Honorable Phil Dyer, Mayor, City of Plano, P.O. Box 860358, Plano, TX 75086 | City Hall, 1520 Avenue K, Plano, TX 75074 | http://www.rampp-team.com/lomrs.htm | September 20, 2013 | 480140
Dallas | City of Coppell (13-06-0810P) | The Honorable Karen Hunt, Mayor, City of Coppell, P.O. Box 9478, Coppell, TX 75019 | City Engineering Department, 255 Parkway Boulevard, Coppell, TX 75019 | http://www.rampp-team.com/lomrs.htm | September 9, 2013 | 480170
Dallas | City of Grand Prairie (13-06-1633P) | The Honorable Charles England, Mayor, City of Grand Prairie, P.O. Box 534045, Grand Prairie, TX 75053 | City Development Center, 206 West Church Street, Grand Prairie, TX 75050 | http://www.rampp-team.com/lomrs.htm | September 9, 2013 | 485472
Montgomery | Unincorporated areas of Montgomery County (13-06-1567P) | The Honorable Alan B. Sadler, Montgomery County Judge, 501 North Thompson Street, Suite 401, Conroe, TX 77301 | Montgomery County Permit Office, 301 North Thompson Street, Suite 208, Conroe, TX 77301 | http://www.rampp-team.com/lomrs.htm | September 26, 2013 | 480483
Tarrant | City of Fort Worth (13-06-1283P) | The Honorable Betsy Price, Mayor, City of Fort Worth, 1000 Throckmorton Street, Fort Worth, TX 76102 | Department of Transportation and Public Works, 1000 Throckmorton Street, Fort Worth, TX 76102 | http://www.rampp-team.com/lomrs.htm | September 5, 2013 | 480596
Virginia: Loudoun | Unincorporated areas of Loudoun County (12-03-1164P) | The Honorable Scott K. York, Chairman-at-Large, Loudoun County Board of Supervisors, 1 Harrison Street Southeast, 5th Floor, Mailstop 1, Leesburg, VA 20175 | Loudoun County Building and Development Department, 1 Harrison Street Southeast, Leesburg, VA 20175 | http://www.rampp-team.com/lomrs.htm | September 19, 2013 | 510090

(Catalog of Federal Domestic Assistance No. 97.022, “Flood Insurance.”)

Dated: July 12, 2013.
Roy E. Wright,
Deputy Associate Administrator for Mitigation, Department of Homeland Security, Federal Emergency Management Agency.

[FR Doc. 2013-18258 Filed 7-29-13; 8:45 am]

BILLING CODE 9110-12-P